DEPARTMENT OF THE INTERIOR

Fish and Wildlife Service

[FWS-HQ-MB-2012-N287; 91400-5110-0000; 91400-9410-0000]

Multistate Conservation Grant Program; Priority List and Approval for Conservation Projects

AGENCY: Fish and Wildlife Service, Department of the Interior.

ACTION: Notice of receipt of priority list and approval of projects.

SUMMARY: We, the U.S. Fish and Wildlife Service (FWS), announce the fiscal year 2013 priority list of wildlife and sport fish conservation projects from the Association of Fish and Wildlife Agencies (AFWA). As required by the Wildlife and Sport Fish Restoration Programs Improvement Act of 2000, AFWA submits a list of projects to us each year to consider for funding under the Multistate Conservation Grant program. We have reviewed the list and have awarded all the grants from the list.

ADDRESSES: John C. Stremple, Multistate Conservation Grants Program Coordinator, Wildlife and Sport Fish Restoration Program, U.S. Fish and Wildlife Service, 4401 North Fairfax Drive, Mail Stop WSFR-4020, Arlington, VA 22203.

FOR FURTHER INFORMATION CONTACT: John C. Stremple, at the above address, or at (703) 358-2156 (phone) or John_Stremple@fws.gov (email).

SUPPLEMENTARY INFORMATION: The Wildlife and Sport Fish Restoration Programs Improvement Act of 2000 (Improvement Act, Pub. L. 106-408) amended the Pittman-Robertson Wildlife Restoration Act (16 U.S.C. 669 et seq.) and the Dingell-Johnson Sport Fish Restoration Act (16 U.S.C. 777 et seq.) and established the Multistate Conservation Grant Program. The Improvement Act authorizes us to award grants of up to $3 million annually from funds available under each of the Restoration Acts, for a total of up to $6 million annually. Projects can be funded from both funds depending on the project activities. We may award grants to projects from a list of priority projects recommended to us by the Association of Fish and Wildlife Agencies. The FWS Director, exercising the authority of the Secretary of the Interior, need not fund all projects on the list, but all projects funded must be on the list.

Grantees under this program may use funds for sport fisheries and wildlife management and research projects, boating access development, hunter safety and education, aquatic education, fish and wildlife habitat improvements, and other purposes consistent with the enabling legislation.

To be eligible for funding, a project must benefit fish and/or wildlife conservation in at least 26 States, or in a majority of the States in any one FWS Region, or it must benefit a regional association of State fish and wildlife agencies. We may award grants to a State, a group of States, or one or more nongovernmental organizations. For the purpose of carrying out the National Survey of Fishing, Hunting, and Wildlife-Associated Recreation, we may award grants to the FWS, if requested by AFWA, or to a State or a group of States. Also, AFWA requires all project proposals to address its National Conservation Needs, which AFWA announces annually at the same time as its request for proposals. Further, applicants must provide certification that no activities conducted under a Multistate Conservation grant will promote or encourage opposition to regulated hunting or trapping of wildlife, or to regulated angling or taking of fish.

Eligible project proposals are reviewed and ranked by AFWA Committees and interested nongovernmental organizations that represent conservation organizations, sportsmen's and women's organizations, and industries that support or promote fishing, hunting, trapping, recreational shooting, bowhunting, or archery. AFWA's Committee on National Grants recommends a final list of priority projects to the directors of State fish and wildlife agencies for their approval by majority vote. By statute, AFWA then must transmit the final approved list to the FWS for funding under the Multistate Conservation Grant program by October 1 of the fiscal year.

This year, we received a list of 17 projects recommended for funding by AFWA. We have awarded all of them for fiscal year 2013. The list follows:

Multistate Conservation Grant Program FY 2013 Projects
ID | Title | Submitter | PR funding ¹ | DJ funding ² | Total 2013 grant request
1 | Coordination of State Fish and Wildlife Agencies' Authority to Manage Wildlife Resources in Concert With Federal Actions Required by International Treaties and Conventions | AFWA | $93,500 | $93,500 | $187,000
2 | State Fish and Wildlife Agency Director Travel Administration and Coordination | AFWA | 64,075 | 64,075 | 128,150
3 | Management Assistance Team | AFWA | 772,064 | 772,064 | 1,544,128
4 | Building Capabilities within State Fish and Wildlife Agencies to Engage, Recruit, and Retain New Hunters and Shooters | Council to Advance Hunting and Shooting Sports | 200,906 | 0 | 200,906
5 | Coordination of the Industry, Federal and State Agency Coalition | AFWA | 101,850 | 101,850 | 203,700
6 | Coordination of Farm Bill Program Implementation to Optimize Fish and Wildlife Benefits to the States | AFWA | 203,280 | 203,280 | 406,560
7 | Implementation of Strategic Tools to Evaluate, Improve, and Develop Hunter Recruitment and Retention | Wildlife Management Institute | 215,600 | 0 | 215,600
8 | Promoting Strategic Fish Habitat Conservation through Regionally-coordinated Science and Collaboration | AFWA | 0 | 490,617 | 490,617
9 | Compilation of Reservoir Habitat Restoration Best Management Practices and Expansion of Local Partnerships | Arkansas Game and Fish | 0 | 250,000 | 250,000
10 | Expansion and Coordination of State Agencies' Fish and Wildlife-related Recreation Initiation Programs | AFWA | 112,500 | 112,500 | 225,000
11 | Understanding Greater Sage-grouse Response to Wind Energy Development at a Landscape Scale | WAFWA | 315,042 | 0 | 315,042
12 | Explore Bowhunting: National Implementation | ATA | 200,000 | 0 | 200,00
13 | Enhancing Fishing Access Through a National Assessment of Recreational Boating Access | States Organization for Boating Access | 0 | 187,996 | 187,996
14 | Improving the Conservation of Fish and Wildlife Populations and their Habitats During Energy Exploration, Development and Transmission | AFWA | 190,020 | 190,020 | 380,040
15 | Exploring Data Collection and Cost Options for the National Survey of Fishing, Hunting, and Wildlife-Associated Recreation | ASA | 160,500 | 150,500 | 321,000
16 | 2013—Enhancing the Wildlife and Sport Fish Restoration Program | Wildlife Management Institute | 200,000 | 200,000 | 400,000
17 | Trailblazer Adventure Program: Involving Youth and Families in Conservation | U.S. Sportsmen's Alliance Foundation | 70,000 | 90,000 | 160,000
|  |  | $2,899,337 | $2,916,402 | $5,815,739
¹ PR Funding: Pitman-Robertson Wildlife Restoration funds.
² DJ Funding: Dingell-Johnson Sport Fish Restoration funds.
ASA: American Sport Fishing Association.
ATA: Archery Trade Association.
WAFWA: Western Association of Fish and Wildlife Agencies.

Dated: January 14, 2013.
Dan Ashe,
Director, U.S. Fish and Wildlife Service.

[FR Doc. 2013-10002 Filed 4-26-13; 8:45 am]

BILLING CODE 4310-55-P